NUCLEAR REGULATORY COMMISSION

[NRC-2023-0098]

Monthly Notice; Applications and Amendments to Facility Operating Licenses and Combined Licenses Involving No Significant Hazards Considerations

AGENCY: Nuclear Regulatory Commission.

ACTION: Monthly notice.

SUMMARY: Pursuant to section 189.a.(2) of the Atomic Energy Act of 1954, as amended (the Act), the U.S. Nuclear Regulatory Commission (NRC) is publishing this regular monthly notice. The Act requires the Commission to publish notice of any amendments issued, or proposed to be issued, and grants the Commission the authority to issue and make immediately effective any amendment to an operating license or combined license, as applicable, upon a determination by the Commission that such amendment involves no significant hazards consideration (NSHC), notwithstanding the pendency before the Commission of a request for a hearing from any person.

DATES: Comments must be filed by June 15, 2023. A request for a hearing or petitions for leave to intervene must be filed by July 17, 2023. This monthly notice includes all amendments issued, or proposed to be issued, from March 31, 2023, to April 27, 2023. The last monthly notice was published on April 18, 2023.

ADDRESSES: You may submit comments by any of the following methods; however, the NRC encourages electronic comment submission through the Federal rulemaking website:

• Federal rulemaking website: Go to https://www.regulations.gov and search for Docket ID NRC-2023-0098. Address questions about Docket IDs in Regulations.gov to Stacy Schumann; telephone: 301-415-0624; email: Stacy.Schumann@nrc.gov. For technical questions, contact the individual listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Shirley Rohrer, Office of Nuclear Reactor Regulation, U.S. Nuclear Regulatory Commission, Washington, DC 20555-0001, telephone: 301-415-5411; email: Shirley.Rohrer@nrc.gov.

SUPPLEMENTARY INFORMATION:

I. Obtaining Information and Submitting Comments

A. Obtaining Information

Please refer to Docket ID NRC-2023-0098, facility name, unit number(s), docket number(s), application date, and subject when contacting the NRC about the availability of information for this action. You may obtain publicly available information related to this action by any of the following methods:

• Federal Rulemaking website: Go to https://www.regulations.gov and search for Docket ID NRC-2023-0098.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2023-0098, facility name, unit number(s), docket number(s), application date, and subject, in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Notice of Consideration of Issuance of Amendments to Facility Operating Licenses and Combined Licenses and Proposed No Significant Hazards Consideration Determination

For the facility-specific amendment requests shown in this notice, the Commission finds that the licensees' analyses provided, consistent with section 50.91 of title 10 of the Code of Federal Regulations (10 CFR) “Notice for public comment; State consultation,” are sufficient to support the proposed determinations that these amendment requests involve NSHC. Under the Commission's regulations in 10 CFR 50.92, operation of the facilities in accordance with the proposed amendments would not (1) involve a significant increase in the probability or consequences of an accident previously evaluated; or (2) create the possibility of a new or different kind of accident from any accident previously evaluated; or (3) involve a significant reduction in a margin of safety.

The Commission is seeking public comments on these proposed determinations. Any comments received within 30 days after the date of publication of this notice will be considered in making any final determinations.

Normally, the Commission will not issue the amendments until the expiration of 60 days after the date of publication of this notice. The Commission may issue any of these license amendments before expiration of the 60-day period provided that its final determination is that the amendment involves NSHC. In addition, the Commission may issue any of these amendments prior to the expiration of the 30-day comment period if circumstances change during the 30-day comment period such that failure to act in a timely way would result, for example in derating or shutdown of the facility. If the Commission takes action on any of these amendments prior to the expiration of either the comment period or the notice period, it will publish in the Federal Register a notice of issuance. If the Commission makes a final NSHC determination for any of these amendments, any hearing will take place after issuance. The Commission expects that the need to take action on any amendment before 60 days have elapsed will occur very infrequently.

A. Opportunity To Request a Hearing and Petition for Leave To Intervene

Within 60 days after the date of publication of this notice, any person (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of no significant hazards consideration, the Commission will make a final determination on the issue of no significant hazards consideration, which will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

B. Electronic Submissions (E-Filing)

All documents filed in NRC adjudicatory proceedings, including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

The following table provides the plant name, docket number, date of application, ADAMS accession number, and location in the application of the licensees' proposed NSHC determinations. For further details with respect to these license amendment applications, see the applications for amendment, which are available for public inspection in ADAMS. For additional direction on accessing information related to this document, see the “Obtaining Information and Submitting Comments” section of this document.

License Amendment Request(s)
Arizona Public Service Company, et al; Palo Verde Nuclear Generating Station, Units 1, 2, and 3; Maricopa County, AZ
Docket No(s) | 50-528, 50-529, 50-530.
Application date | December 7, 2022, as supplemented by letter dated April 12, 2023.
ADAMS Accession Nos | ML22341A613, ML23102A324.
Location in Application of NSHC | Pages 8-11 of the enclosure to the application and page 1 of the enclosure to the supplement.
Brief Description of Amendment(s) | The proposed amendments would adopt Technical Specification Task Force (TSTF) Traveler TSTF-107-A, Revision 4, “Separate Control Rods that are Untrippable versus Inoperable,” and, additionally, provide an action for limited duration loss of some position indication for multiple control element assemblies, in lieu of Limiting Condition for Operation (LCO) 3.0.3 entry. The proposed amendments would modify Technical Specifications LCO 3.1.5, “Control Element Assembly (CEA) Alignment,” Conditions A through D.
Proposed Determination | NSHC.
Name of Attorney for Licensee, Mailing Address | Carey Fleming, Senior Counsel, Pinnacle West Capital Corporation, 500 N 5th Street, MS 8695, Phoenix, AZ 85004.
NRC Project Manager, Telephone Number | Siva Lingam, 301-415-1564.
Constellation Energy Generation, LLC; Quad Cities Nuclear Power Station, Units 1 and 2; Rock Island County, IL
Docket No(s) | 50-254, 50-265.
Application date | February 3, 2023.
ADAMS Accession No | ML23034A219.
Location in Application of NSHC | Pages 3 and 4 of Attachment 1.
Brief Description of Amendment(s) | The proposed amendments would revise the Quad Cities Nuclear Power Station, Units 1 and 2, technical specifications by moving the low-pressure coolant injection valve alignment note currently located in Surveillance Requirement 3.5.1.2 to Limiting Condition for Operation 3.5.1.
Proposed Determination | NSHC.
Name of Attorney for Licensee, Mailing Address | Jason Zorn, Associate General Counsel, Constellation Energy Generation, 4300 Winfield Road, Warrenville, IL 60555.
NRC Project Manager, Telephone Number | Robert Kuntz, 301-415-3733.
Duke Energy Carolinas, LLC; McGuire Nuclear Station, Units 1 and 2; Mecklenburg County, NC
Docket No(s) | 50-369, 50-370.
Application date | February 16, 2023.
ADAMS Accession No | ML23047A465.
Location in Application of NSHC | Pages 8 and 9 of Attachment 1.
Brief Description of Amendment(s) | The proposed amendments would modify technical specification requirements to permit the use of risk-informed completion times in accordance with Technical Specifications Task Force (TSTF) Traveler TSTF-505, Revision 2, “Provide Risk-Informed Extended Completion Times—Risk Informed Technical Specification Task Force Initiative 4b.”
Proposed Determination | NSHC.
Name of Attorney for Licensee, Mailing Address | Tracey Mitchell LeRoy, Deputy General Counsel, Duke Energy Corporation, 4720 Piedmont Row Dr., Charlotte, NC 28210.
NRC Project Manager, Telephone Number | John Klos, 301-415-5136.
Duke Energy Carolinas, LLC; McGuire Nuclear Station, Units 1 and 2; Mecklenburg County, NC
Docket No(s) | 50-369, 50-370.
Application date | February 17, 2023.
ADAMS Accession No | ML23048A022.
Location in Application of NSHC | Pages 27 and 28 of the Enclosure.
Brief Description of Amendment(s) | The proposed amendments would modify the licensing basis to allow for the implementation of the provisions of 10 CFR 50.69, “Risk-informed categorization and treatment of structures, systems and components for nuclear power reactors” which would allow adjustment of the scope of equipment subject to special treatment controls.
Proposed Determination | NSHC.
Name of Attorney for Licensee, Mailing Address | Tracey Mitchell LeRoy, Deputy General Counsel, Duke Energy Corporation, 4720 Piedmont Row Dr., Charlotte, NC 28210.
NRC Project Manager, Telephone Number | John Klos, 301-415-5136.
Florida Power & Light Company, et al.; St. Lucie Plant, Unit Nos. 1 and 2; St. Lucie County, FL
Docket No(s) | 50-335, 50-389.
Application date | December 2, 2022.
ADAMS Accession No | ML22336A071.
Location in Application of NSHC | Pages 23-25 of the Enclosure.
Brief Description of Amendment(s) | The proposed amendments would modify the licensing basis by the addition of a license condition to allow for the implementation of the provisions of 10 CFR 50.69, ”Risk-Informed Categorization and Treatment of Structures, Systems and Components for Nuclear Power Reactors.”
Proposed Determination | NSHC.
Name of Attorney for Licensee, Mailing Address | Steven Hamrick, Senior Attorney 801 Pennsylvania Ave. NW, Suite 220, Washington, DC 20004.
NRC Project Manager, Telephone Number | Natreon Jordan, 301-415-7410.
Southern Nuclear Operating Company, Inc.; Vogtle Electric Generating Plant, Unit 3; Burke County, GA
Docket No(s) | 52-025.
Application date | April 4, 2023.
ADAMS Accession No | ML23094A268.
Location in Application of NSHC | Pages 6-7 of the Enclosure.
Brief Description of Amendment(s) | The proposed amendment would remove Combined License (COL) Appendix C, “Inspections, Tests, Analyses, and Acceptance Criteria,” and make appropriate revisions to the COL that references this appendix.
Proposed Determination | NSHC.
Name of Attorney for Licensee, Mailing Address | Stanford Blanton, Balch & Bingham LLP, P.O. Box 306, Birmingham, AL 35201.
NRC Project Manager, Telephone Number | Cayetano Santos, 301-415-7270.
Tennessee Valley Authority; Browns Ferry Nuclear Plant, Units 1, 2, and 3; Limestone County, AL
Docket No(s) | 50-259, 50-260, 50-296.
Application date | March 10, 2023.
ADAMS Accession No | ML23069A100.
Location in Application of NSHC | Pages E3 and E4 of the Enclosure.
Brief Description of Amendment(s) | The proposed amendments would revise Browns Ferry Nuclear Plant, Units 1, 2, and 3, technical specification (TS) actions applicable when a residual heat removal (RHR) shutdown cooling subsystem is inoperable and provide a TS exception to entering Mode 4 if both required RHR shutdown cooling subsystems are inoperable. The proposed changes are consistent with Technical Specification Task Force (TSTF) Traveler TSTF-566-A, “Revise Actions for Inoperable RHR Shutdown Cooling Subsystems,” and Traveler TSTF-580-A, Revision 1, “Provide Exception from Entering Mode 4 with No Operable RHR Shutdown Cooling.”
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Tennessee Valley Authority; Browns Ferry Nuclear Plant, Units 1, 2, and 3; Limestone County, AL
Docket No(s) | 50-259, 50-260, 50-296.
Application date | March 30, 2023.
ADAMS Accession No. | ML23089A167.
Location in Application of NSHC | Pages E8 and E9 of the Enclosure.
Brief Description of Amendment(s) | The proposed amendments would revise Browns Ferry Nuclear Plant, Units 1, 2, and 3. Technical Specification Surveillance Requirements 3.4.3.2 and 3.5.1.11 by supplementing the current requirement to verify the safety relief valves and automatic depressurization valves, respectively, open when manually actuated with an alternate requirement that verifies the valves are capable of being opened in accordance with the inservice testing program (IST) and revising the frequency to be in accordance with the IST.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Tennessee Valley Authority; Watts Bar Nuclear Plant, Units 1 and 2; Rhea County, TN
Docket No(s) | 50-390, 50-391.
Application date | March 20, 2023.
ADAMS Accession No | ML23079A270.
Location in Application of NSHC | Pages E1-19—E1-93 of the Enclosure.
Brief Description of Amendment(s) | The proposed amendments would revise Watts Bar Nuclear Plant (Watts Bar), Units 1 and 2, Technical Specification (TS) 4.2.1, “Fuel Assemblies,” to increase the number of tritium producing burnable absorber rods that can be irradiated in the core to 2,496. The proposed amendments would revise Watts Bar, Unit 1, TS 5.9.6, “Reactor Coolant System (RCS) Pressure and Temperature Limits Report (PTLR),” to be consistent with Watts Bar, Unit 2, TS 5.9.6. The proposed amendments also would revise both units' TS 5.9.6.b to add WCAP-18124-NP-A Rev. 0 Supplement 1-NP-A, Rev. 0, “Fluence Determination with RAPTOR-M3G and FERRET—Supplement for Extended Beltline Materials.” Lastly, the proposed amendments would revise the Watts Bar Dual-Unit Update Final Safety Analysis Report to modify the source term for the design basis accident analyses to allow the core fission product inventory to be calculated using an updated version of the ORIGEN code.
Proposed Determination | NSHC.
Name of Attorney for Licensee, Mailing Address | David Fountain, Executive VP and General Counsel, Tennessee Valley Authority, 6A West Tower, 400 West Summit Hill Drive, Knoxville, TN 37902.
NRC Project Manager, Telephone Number | Kimberly Green, 301-415-1627.
Wolf Creek Nuclear Operating Corporation; Wolf Creek Generating Station, Unit 1; Coffey County, KS
Docket No(s) | 50-482.
Application date | March 1, 2023.
ADAMS Accession No | ML23060A481.
Location in Application of NSHC | Pages 6 and 7 of the Attachment.
Brief Description of Amendment(s) | The proposed amendment would revise the technical specifications by removing the Power Range Neutron Flux Rate—High Negative Rate Trip function, consistent with Westinghouse Topical Report WCAP-11394-P-A, “Methodology for the Analysis of the Dropped Rod Event,” that was approved by the NRC staff.
Proposed Determination | NSHC.
Name of Attorney for Licensee, Mailing Address | Thomas C. Poindexter, Nukelaw LLC, 66 Franklin Street, Unit 502, Annapolis, MD 21401.
NRC Project Manager, Telephone Number | Samson Lee, 301-415-3168.

III. Notice of Issuance of Amendments to Facility Operating Licenses and Combined Licenses

During the period since publication of the last monthly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed NSHC determination, and opportunity for a hearing in connection with these actions, was published in the Federal Register as indicated in the safety evaluation for each amendment.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated in the safety evaluation for the amendment.

For further details with respect to each action, see the amendment and associated documents such as the Commission's letter and safety evaluation, which may be obtained using the ADAMS accession numbers indicated in the following table. The safety evaluation will provide the ADAMS accession numbers for the application for amendment and the Federal Register citation for any environmental assessment. All of these items can be accessed as described in the “Obtaining Information and Submitting Comments” section of this document.

License Amendment Issuance(s)
Constellation Energy Generation, LLC; Calvert Cliffs Nuclear Power Plant, Units 1 and 2; Calvert County, MD
Docket No(s) | 50-317, 50-318.
Amendment Date | April 24, 2023.
ADAMS Accession No | ML23086C067.
Amendment No(s) | 345 (Unit 1), 323 (Unit 2).
Brief Description of Amendment(s) | The amendment deleted certain license conditions from the Calvert Cliffs Renewed Facility Operating Licenses that impose specific requirements on the decommissioning trust fund agreement. The provisions of 10 CFR 50.75(h) that specify the regulatory requirements for decommissioning trust funds applies to the licensee.
Public Comments Received as to Proposed NSHC (Yes/No) | No.
Constellation Energy Generation, LLC; Clinton Power Station, Unit No. 1; DeWitt County, IL; Dresden Nuclear Power Station, Units 2 and 3; Grundy County, IL; LaSalle County Station, Units 1 and 2; LaSalle County, IL; Quad Cities Nuclear Power Station, Units 1 and 2; Rock Island County, IL; Nine Mile Point Nuclear Station, LLC and Nine Mile Point Nuclear Station, Unit 2; Oswego County, NY
Docket No(s) | 50-461, 50-237, 50-249, 50-373, 50-374, 50-410, 50-254, 50-265.
Amendment Date | April 25, 2023.
ADAMS Accession No | ML23081A038.
Amendment No(s) | Clinton 249; Dresden 280 (Unit 1), 273 (Unit 2); LaSalle 259 (Unit 1), 244 (Unit 2); Nine Mile Point 193 (Unit 2); Quad Cities 295 (Unit 1), 291 (Unit 2).
Brief Description of Amendment(s) | The amendments revised the technical specifications for each facility based on Technical Specification Task Force (TSTF) Traveler TSTF-306, Revision 2, “Add Action to LCO 3.3.6.1 to Give Option to Isolate the Penetration” (ML003725864).
Public Comments Received as to Proposed NSHC (Yes/No) | No.
Energy Northwest; Columbia Generating Station; Benton County, WA
Docket No(s) | 50-397.
Amendment Date | April 27, 2023.
ADAMS Accession No | ML23083B401.
Amendment No(s) | 271.
Brief Description of Amendment(s) | The amendment revised Columbia Generating Station Technical Specification (TS) 3.4.9, “Residual Heat Removal (RHR) Shutdown Cooling System—Hot Shutdown,” in accordance with Technical Specifications Task Force (TSTF) Traveler TSTF-580, Revision 1, “Provide Exception from Entering Mode 4 With No Operable RHR Shutdown Cooling.” Specifically, the proposed changes provided a TS exception to entering Mode 4 if both required RHR shutdown cooling subsystems are inoperable.
Public Comments Received as to Proposed NSHC (Yes/No) | No.
Nine Mile Point Nuclear Station, LLC and Constellation Energy Generation, LLC; Nine Mile Point Nuclear Station, Unit 2; Oswego County, NY
Docket No(s) | 50-410.
Amendment Date | April 17, 2023.
ADAMS Accession No | ML23082A350.
Amendment No(s) | 192.
Brief Description of Amendment(s) | The amendment revised the surveillance requirements (SR) associated with Nine Mile Point 2 Technical Specification (TS) Section 3.8.1, “AC Sources—Operating,” to reduce the number of fast starts of the emergency diesel generators (EDGs). Specifically, TS SR 3.8.1.2 is revised to identify the “Start Test” testing requirements for the EDGs. In addition, a new SR was created to identify the “Fast Start” testing requirements for the EDGs.
Public Comments Received as to Proposed NSHC (Yes/No) | No.
Tennessee Valley Authority; Sequoyah Nuclear Plant, Units 1 and 2; Hamilton County, TN; Watts Bar Nuclear Plant, Units 1 and 2; Rhea County, TN
Docket No(s) | 50-327, 50-328, 50-390, 50-391.
Amendment Date | April 5, 2023.
ADAMS Accession No | ML23072A065.
Amendment No(s) | Sequoyah 364 (Unit 1) and 358 (Unit 2), Watts Bar 160 (Unit 1) and 68 (Unit 2).
Brief Description of Amendment(s) | The amendments revised Sequoyah Units 1 and 2 Technical Specification (TS) 3.4.12, “Low Temperature Overpressure Protection (LTOP) System,” and the Watts Bar Units 1 and 2 TS 3.4.12 “Cold Overpressure Mitigation System (COMS),” by adding a note to the Limiting Condition for Operation regarding pump testing.
Public Comments Received as to Proposed NSHC (Yes/No) | No.
TMI-2 Solutions, LLC; Three Mile Island Nuclear Station, Unit 2; Londonderry Township, Dauphin County, PA
Docket No(s) | 50-320.
Amendment Date | March 31, 2023.
ADAMS Accession No | ML23051A042 (package).
Amendment No(s) | 67.
Brief Description of Amendment(s) | This amendment eliminated certain technical specifications, the limiting conditions for Post-Defueling Monitored Storage and surveillance requirements that have already been met, or that are no longer applicable based the facility's current radiological conditions. The amendment allowed TMI-2 Solutions to relocate certain administrative controls from Section 6, “Administrative Controls,” to the Decommissioning Quality Assurance Plan, subsequently controlling them in accordance with 10 CFR 50.54(a) pursuant to the criteria contained in 10 CFR 50.36 and in accordance with the recommendations, guidance and purpose of NRC Administrative Letter 95-06 (ML20101P963).
Public Comments Received as to Proposed NSHC (Yes/No) | No.
Virginia Electric and Power Company; Surry Power Station, Unit Nos. 1 and 2; Surry County, VA
Docket No(s) | 50-280, 50-281.
Amendment Date | April 25, 2023.
ADAMS Accession No | ML23100A065.
Amendment No(s) | 310 (Unit 1) 310 (Unit 2).
Brief Description of Amendment(s) | The amendments revised the designation of the Surry Power Station, Unit Nos. 1 and 2, turbine buildings as tornado-resistant structures, which will be reflected in the Surry Updated Final Safety Analysis Report.
Public Comments Received as to Proposed NSHC (Yes/No) | No.

Dated: May 9, 2023.
For the Nuclear Regulatory Commission.
Jamie M. Heisserer,
Deputy Director, Division of Operating Reactor Licensing, Office of Nuclear Reactor Regulation.

[FR Doc. 2023-10211 Filed 5-15-23; 8:45 am]

BILLING CODE 7590-01-P